DEPARTMENT OF DEFENSE

Office of the Secretary

Strategic Environmental Research and Development Program, Scientific Advisory Board Meeting

AGENCY: Department of Defense.

ACTION: Notice.

SUMMARY: On Wednesday, April 10, 2002, the Strategic Environmental Research and Development Program announced a Committee meeting (67 FR 17415). This notice is being published to inform interested persons that the meeting location has been changed.

DATES: June 11, 2002 from 0830 a.m. to 1655 p.m., and June 12, 2002 from 0830 a.m. to 1600 p.m.

ADDRESSES: Holiday Inn at Ballston, 4610 North Fairfax Drive, Arlington Room, Arlington, VA 22203-1860.

FOR FURTHER INFORMATION CONTACT: Ms. Veronica Rice, SERDP Program Office, 901 North Stuart Street, Suite 303, Arlington, VA or by telephone at (703) 696-2119.

SUPPLEMENTARY INFORMATION:

Matters To Be Considered

Research and Development proposals and continuing projects requesting Strategic Environmental Research and Development Program funds in excess of $1M will be reviewed.

This meeting is open to the public. Any interested person may attend, appear before, or file statements with the Scientific Advisory Board at the time and in the manner permitted by the Board.

Dated: April 22, 2002.
Patricia L. Toppings,
Alternate OSD Federal Register Liaison Officer, Department of Defense.

[FR Doc. 02-10279 Filed 4-25-02; 8:45 am]

BILLING CODE 5001-08-M